DEPARTMENT OF STATE

[Public Notice: 9628]

Advisory Committee for the Study of Eastern Europe and the Independent States of the Former Soviet Union (Title VIII)

The Advisory Committee for the Study of Eastern Europe and the Independent States of the Former Soviet Union (Title VIII) will convene on Monday, August 1, 2016, from 12:00 p.m. until approximately 3:00 p.m. The meeting will take place at the U.S. Department of State, Harry S. Truman Building, 2201 C Street NW., Washington, DC, Room 1205.

The Advisory Committee will recommend grant recipients for the FY 2015 competition of the Program for the Study of Eastern Europe and the Independent States of the Former Soviet Union, in accordance with the Research and Training for Eastern Europe and the Independent States of the Former Soviet Union Act of 1983, Public Law 98-164, as amended. The agenda will include opening statements by the chairperson and members of the committee. The committee will provide an overview and discussion of grant proposals from “national organizations with an interest and expertise in conducting research and training concerning the countries of Eastern Europe and the Independent States of the Former Soviet Union,” based on the guidelines set forth in the June 3, 2016 request for proposals published on Grants.gov and GrantSolutions.gov. Following committee deliberation, interested members of the public may make oral statements concerning the Title VIII program.

This meeting will be open to the public; however, attendance is limited to available seating. Entry into the Harry S Truman building is controlled and must be arranged in advance of the meeting. Those planning to attend should notify the Title VIII Program Office at the U.S. Department of State on (202) 647-4562 no later than close of business, Wednesday, July 27, 2016.

For pre-clearance into the Harry S. Truman building, the Title VIII Program Officer will request identifying data pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please review the Security Records System of Records Notice (State-36) at http://foia.state.gov/_docs/SORN/State-36.pdf for additional information.

All attendees must use the 2201 C Street entrance and must arrive no later than 11:30 a.m. to pass through security before entering the building. Visitors who arrive without prior notification and without photo identification cannot be admitted.

Dated: June 27, 2016.
Nancy Cohen,
(Acting) Executive Director, Advisory Committee for Study of Eastern Europe and Eurasia (the Independent States of the Former Soviet Union).

[FR Doc. 2016-15979 Filed 7-5-16; 8:45 am]

BILLING CODE 4710-32-P